DEPARTMENT OF TRANSPORTATION

Federal Railroad Administration

49 CFR Part 238

[Docket No. FRA-2013-0060, Notice No. 4]

RIN 2130-AC46

Passenger Equipment Safety Standards; Correction

AGENCY: Federal Railroad Administration (FRA), Department of Transportation (DOT).

ACTION: Correcting amendment.

SUMMARY: On November 21, 2018, FRA published a final rule amending FRA's passenger equipment safety standards. In preparing the final rule for publication, an error was made that led to the inadvertent removal of rule text. FRA is correcting that minor error to restore the rule text so that the final rule clearly conforms to FRA's intent.

DATES: Effective on April 19, 2019.

FOR FURTHER INFORMATION CONTACT: Michael Hunter, Attorney Adviser, U.S. Department of Transportation, Federal Railroad Administration, Office of Chief Counsel, 1200 New Jersey Avenue SE, Washington, DC 20590 (telephone: 202-493-0368).

SUPPLEMENTARY INFORMATION: In the November 21, 2018, final rule amending FRA's passenger equipment safety standards, FRA incorrectly worded an instruction amending paragraph (a) of 49 CFR 238.213. The error led to the inadvertent removal of paragraphs (a)(1)(i) through (iii) of § 238.213. See 83 FR 59182, 59219 (Nov. 21, 2018). As this was not FRA's intent, FRA is issuing this correction amending § 238.213 to restore those paragraphs, and is proceeding directly to a final rule as it finds public notice and comment to be unnecessary per the “good cause” exemption in 5 U.S.C. 553(b)(3)(B).

49 CFR Part 238

Passenger equipment, Railroad safety, Reporting and recordkeeping requirements.

The Rule

For the reasons discussed in the preamble, FRA amends part 238 of chapter II, subtitle B of title 49, Code of Federal Regulations as follows:

PART 238—[AMENDED]

1. The authority citation for part 238 continues to read as follows:

Authority: 49 U.S.C. 20103, 20107, 20133, 20141, 20302-20303, 20306, 20701-20702, 21301-21302, 21304; 28 U.S.C. 2461, note; and 49 CFR 1.89.

2. In § 238.213, add paragraphs (a)(1)(i) through (iii) to read as follows:

§ 238.213 Corner posts.

(a)(1) * * *

(i) A 150,000-pound horizontal force applied at a point even with the top of the underframe, without exceeding the ultimate strength of either the post or its supporting car body structure;

(ii) A 20,000-pound horizontal force applied at the point of attachment to the roof structure, without exceeding the ultimate strength of either the post or its supporting car body structure; and

(iii) A 30,000-pound horizontal force applied at a point 18 inches above the top of the underframe, without permanent deformation of either the post or its supporting car body structure.

* * * * *

Brett A. Jortland,
Acting Chief Counsel, Federal Railroad Administration.

[FR Doc. 2019-07896 Filed 4-18-19; 8:45 am]

BILLING CODE 4910-06-P